DEPARTMENT OF DEFENSE

GENERAL SERVICES ADMINISTRATION

NATIONAL AERONAUTICS AND SPACE ADMINISTRATION

[OMB Control No. 9000-0058; Docket 2012-0076; Sequence 55]

Federal Acquisition Regulation; Submission for OMB Review; Schedules for Construction Contracts

AGENCY: Department of Defense (DOD), General Services Administration (GSA), and National Aeronautics and Space Administration (NASA).

ACTION: Notice of request for an extension regarding an existing OMB clearance.

SUMMARY: Under the provisions of the Paperwork Reduction Act, the Regulatory Secretariat will be submitting to the Office of Management and Budget (OMB) a request to review and approve an extension of a previously approved information collection requirement concerning schedules for construction contracts. A notice was published in the Federal Register at 77 FR 73659, on December 11, 2012. One respondent submitted comments.

DATES: Submit comments on or before March 27, 2013.

ADDRESSES: Submit comments identified by Information Collection 9000-0058, Schedules for Construction Contracts by any of the following methods:

• Regulations.gov: http://www.regulations.gov. Submit comments via the Federal eRulemaking portal by searching the OMB control number. Select the link “Submit a Comment” that corresponds with “Information Collection 9000-0058, Schedules for Construction Contracts”. Follow the instructions provided at the “Submit a Comment” screen. Please include your name, company name (if any), and “Information Collection 9000-0058, Schedules for Construction Contracts” on your attached document.

• Fax: 202-501-4067.

• Mail: General Services Administration, Regulatory Secretariat (MVCB), 1275 First Street NE., Washington, DC 20417. ATTN: Hada Flowers/IC 9000-0058, Schedules for Construction Contracts.

Instructions: Please submit comments only and cite Information Collection 9000-0058, Schedules for Construction Contracts, in all correspondence related to this collection. All comments received will be posted without change to http://www.regulations.gov, including any personal and/or business confidential information provided.

FOR FURTHER INFORMATION CONTACT: Mr. Curtis E. Glover, Sr., Procurement Analyst, Office of Acquisition Policy, (202) 501-1448 or email curtis.glover@gsa.gov.

SUPPLEMENTARY INFORMATION:

A. Purpose

Federal construction contractors may be required to submit schedules, in the form of a progress chart, showing the order in which the Contractor proposes to perform the work. In accordance with FAR 52.236-15, Schedules for Construction Contracts, the Contractor shall, within five days after work commences on the contract or another period of time determined by the contracting officer, prepare and submit to the contracting officer for approval three copies of a practicable schedule showing the order in which the Contractor proposes to perform the work, and the dates on which the Contractor contemplates starting and completing the several salient features of the work (including acquiring materials, plants, and equipment). This information is used to monitor progress under a Federal construction contract when other management approaches for ensuring adequate progress are not used. If the Contractor fails to submit a schedule within the time prescribes, the Contracting Officer may withhold approval of progress payments until the Contractor submits the required schedule.

B. Discussion and Analysis

One respondent submitted public comments on the extension of the previously approved information collection. The analysis of the public comments is summarized as follows:

Comment: The respondent commented that the extension of the information collection would violate the fundamental purpose of the Paperwork Reduction Act because of the burden it puts on the entity submitting the information and the agency collecting the information.

Response: In accordance with the Paperwork Reduction Act (PRA), agencies can request an OMB approval of an existing information collection. The PRA requires that agencies use the Federal Register Notice and comment process, to extend the OMB's approval, at least every three years. This extension, to a previously approved information collection, pertains to FAR 36.515, Schedules for Construction Contracts. The purpose of this subpart is to monitor progress under a federal construction contract when other management approaches for ensuring adequate progress are not used. This subpart provides the contracting officer with a construction schedule, in the form of a progress chart. Actual progress is entered on the chart as directed by the contracting officer. Not granting this extension would eliminate the Government's ability to track the contractor's progress when other management approaches for ensuring adequate progress are not used.

Comment: The respondent commented that the agency does not accurately estimate the public burden an extension of the information collection requirement would create. The respondent requested an explanation how the estimated number of respondents and responses was derived. The respondent also indicated that the estimate of one hour per response is unrealistically low and respectfully submitted that a more reasonable estimate would likely be in the range of 15 to 30 hours per response.

Response: Based on Federal procurement Data System (FPDS) data, 4,450 fixed-price construction contracts were awarded to 2,679 unique vendors in Fiscal Year 2011. Contracting officers only use clause 52.236-15, Schedules for Construction Contracts, when other management approaches for ensuring that a Contractor makes adequate progress are not available. Despite this criterion, the estimated total burden is calculated using total number of awards for FY11 as the baseline. An addition number of respondents are included in the estimate to account for existing contracts that may have incorporated FAR clause 52.236-15. The Government estimates that approximately fifty percent of the contracts cross-over to the following fiscal year, so another 1340 respondents are added to the 2,679 for an estimated total of 4,019 respondents.

Based on the FY11 data, each unique vendor responded 1.67 times to Government requests for information. The number of responses is rounded up to two, the nearest whole number. As a result, the estimated annual responses are 8,038.

The Contractor is required, within five days after the work commences on the contract or another period of time determined by the contracting officer, to prepare and submit for approval three copies of a practicable schedule showing the order in which the Contractor proposes to perform the work, and the dates on which the Contractor contemplates starting and completing the several salient features of the work (including acquiring materials, plant, and equipment). The schedule shall be in the form of a progress chart of suitable scale to indicate appropriately the percentage of work scheduled for completion by any given date during the period. Subject matter experts in construction state that when contractors submit their proposals for construction projects, they usually include a schedule to complete the project. Based on this information being readily available to the Contractor once an award is made, it is not expected that a significant amount of time would be required to update the information at the request of the Government. However, in consideration of the public comment an upward adjustment is made to estimates hours per response.

Comment: The respondent commented the collective burden of compliance with the information collection requirement greatly exceeds the agency's estimate and outweighs any potential utility of the extension.

Response: The Paperwork Reduction Act (PRA) was designed to improve the quality and use of Federal information to strengthen decision-making, accountability, and openness in government and society. Central to this process is the solicitation of comments from the public. This process incorporates an enumerated specification of targeted information and provides interested parties a meaningful opportunity for comment on the relevant compliance cost. This process has led to decreases in the overall collective burden of compliance for the information collection requirement in regards to the public. Based on OMB estimates, in FY 2010, the public spent 8.8 billion hours responding to information collections. This was a decrease of one billion hours, or ten percent from the previous fiscal year. In effect, the collective burden of compliance for the public is going down as the Government publishes rules that make the process less complex, more transparent, and reduces the cost of federal regulations to both the Contractor community and Government.

Comment: The respondent commented that the Government's response to the Paperwork Reduction Act waiver for Far Case 2007-006 is instructive on the total burden for respondents.

Response: Serious consideration is given, during the open comment period, to all comments received and adjustments are made to the paperwork burden estimate based on reasonable considerations provide by the public. This is evidenced, as the respondent notes, in FAR Case 2007-006 where an adjustment was made from the total preparation hours from three to sixty. This change was made considering particularly the hours that would be required for review within the company, prior to release to the Government.

The burden is prepared taking into consideration the necessary criteria in OMB guidance for estimating the paperwork burden put on the entity submitting the information. For example, consideration is given to an entity reviewing instructions; using technology to collect, process, and disclose information; adjusting existing practices to comply with requirements; searching data sources; completing and reviewing the response; and transmitting or disclosing information. The estimated burden hours for a collection are based on an average between the hours that a simple disclosure by a very small business might require and the much higher numbers that might be required for a very complex disclosure by a major corporation. Also, the estimated burden hours should only include projected hours for those actions which a company would not undertake in the normal course of business. Careful consideration went into assessing the estimated burden hours for this collection, and it is determined that an upward adjustment is warranted at this time.

C. Annual Reporting Burden

Respondents: 4,019.

Responses per Respondent: 2.

Annual Responses: 8,038.

Hours per Response: 4.

Total Burden Hours: 32,152.

Obtaining Copies of Proposals: Requesters may obtain a copy of the information collection documents from the General Services Administration, Regulatory Secretariat (MVCB), 1275 First Street NE., Washington, DC 20417, telephone (202) 501-4755. Please cite OMB Control No. 9000-0058, Schedules for Construction Contracts, in all correspondence.

Dated: February 19, 2013.
William Clark,
Acting Director, Federal Acquisition Policy Division, Office of Governmentwide Acquisition Policy, Office Acquisition Policy, Office of Governmentwide Policy.

[FR Doc. 2013-04194 Filed 2-22-13; 8:45 am]

BILLING CODE 6820-EP-P